DEPARTMENT OF DEFENSE

Department of the Navy

Notice of Availability of Record of Decision for the Final Environmental Impact Statement for Proposed Land Acquisition at Washington Navy Yard (WNY), Washington, District of Columbia

AGENCY: Department of the Navy (DoN), Department of Defense (DoD).

ACTION: Notice of availability.

SUMMARY: After carefully weighing the strategic, operational, and environmental consequences of the proposed action, the DoN announces its decision to select Alternative 1A (Preferred Alternative) from the Final Environmental Impact Statement for Proposed Land Acquisition at WNY, Washington, DC (hereafter, Final EIS). This alternative will enable the DoN to improve the Antiterrorism (AT) posture, protect adjacent mission-critical activities from encroachment, and otherwise meet the purpose and need of this action. Additionally, this alternative allows the DoN to meet a long-term need of relocating the existing museum. Construction and operation of the relocated museum will provide a location for a new, world-class museum for public enjoyment and bring potential retail and commercial amenities to the local area.

ADDRESSES: The complete text of the Record of Decision (ROD), along with the August 2023 Final EIS and supporting documents is available on the project website at: https://ndw.cnic.navy.mil/WNY-Land-Acquisition/1/.

FOR FURTHER INFORMATION CONTACT: Naval Facilities Engineering System Command Washington, Attn: EIS Project Manager, 1314 Harwood Street SE, Washington, DC 20374.

SUPPLEMENTARY INFORMATION: The selected alternative involves the DoN exchanging certain underutilized properties (approximately 15 acres) within the WNY Southeast Corner, via lease and/or transfer, with a private developer to obtain acquisition rights of the approximately 6-acre Southeast Federal Center (SEFC) E Parcels. General Services Administration will then transfer ownership of the SEFC E Parcels to the DoN via a federal-to-federal transfer. The DoN may enter into a lease agreement with a non-federal entity to relocate the existing National Museum of the U.S. Navy to the SEFC E Parcels. The land exchange of the SEFC E Parcels for the WNY Southeast Corner will require relocation of functions from the WNY Southeast Corner to other areas within the WNY. These relocations may require additional environmental analysis and National Environmental Policy Act planning. This alternative will also include future development on the WNY Southeast Corner by the private developer and in-kind considerations at the WNY, such as upgrades to the Riverwalk and piers to be provided by the developer.

Dated: September 13, 2023.
J.E. Koningisor,
Lieutenant Commander, Judge Advocate General's Corps, U.S. Navy, Federal Register Liaison Officer.

[FR Doc. 2023-20154 Filed 9-18-23; 8:45 am]

BILLING CODE 3810-FF-P